DEPARTMENT OF VETERANS AFFAIRS

[OMB Control No. 2900-NEW]

Agency Information Collection Activity Under OMB Review: Veteran Financial and Credit Counseling Services Study

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW.”

FOR FURTHER INFORMATION CONTACT: Maribel Aponte, Office of Enterprise and Integration, Data Governance Analytics (008), 810 Vermont Avenue NW, Washington, DC 20420, (202) 266-4688 or email maribel.aponte@va.gov. Please refer to “OMB Control No. 2900-NEW” in any correspondence.

SUPPLEMENTARY INFORMATION:

Authority: 44 U.S.C. 3501-3521.

Title: Veteran Financial and Credit Counseling Services Study.

OMB Control Number: 2900-NEW.

Type of Review: New collection.

Abstract: Section 313 of the Joseph Maxwell Cleland and Robert Joseph Dole Memorial Veterans Benefits and Health Care Improvement (Cleland-Dole) Act of 2022 (Pub. L. 117-328) requires the VA to conduct a study on financial and credit counseling by querying financial and credit counselors, homeless programs providers, and subject matters experts regarding the use of financial and credit counseling services. The intent of this study is to identify financial and credit counseling needs of Veterans experiencing homelessness or at risk of experiencing homelessness, the financial and credit counseling services offered to these Veterans, the specific barriers that these Veterans have in accessing these financial and credit counseling services, and the effects of financial and credit counseling services on such outcomes as employment, housing status, income, and credit score. The information collected will be used to inform VA policy makers, program managers, and process improvement investigators about how to enhance financial and credit counseling services that are offered to Veterans experiencing homelessness or at risk of experiencing homelessness. The results of this study, which will not include personally identifiable information about the individual respondents, will be shared with Congress via a congressionally mandated report.

An agency may not conduct or sponsor, and a person is not required to respond to, a collection of information unless it displays a currently valid OMB control number. The Federal Register Notice with a 60-day comment period soliciting comments on this collection of information was published at 88 FR 47948-47949 on July 25, 2023.

Affected Public: Individuals or households.

Estimated Annual Burden: 567 hours.

Estimated Average Burden per Respondent: 20 minutes.

Frequency of Response: One time.

Estimated Number of Respondents: 1,700.

By direction of the Secretary.
Dorothy Glasgow,
VA PRA Clearance Officer, (Alt.), Office of Enterprise and Integration, Data Governance Analytics, Department of Veterans Affairs.

[FR Doc. 2023-22339 Filed 10-6-23; 8:45 am]

BILLING CODE 8320-01-P